DEPARTMENT OF JUSTICE

Antitrust Division

Notice Pursuant to the National Cooperative Research and Production Act of 1993—Countering Weapons of Mass Destruction

Notice is hereby given that, on April 30, 2020, pursuant to Section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, ALEX—Alternative Experts, LLC, Dumfries, VA; ARD Global, LLC, McLean, VA; Avatar Computing, Inc., Worcester, MA; Biostealth, Inc., Durham, NC; Bohemia Interactive Simulations, Inc., Orlando, FL; Chenega Reliable Services, LLC, San Antonio, TX; CogniTech Corporation, Salt Lake City, UT; CR Manufacturing LLC dba Composite Resource, Rock Hill, SC; Custom Analytical Engineering Systems, Inc., Flintstone, MD; Expedition Technology, Inc., Herndon, VA; Fire Safety International, Inc., Sheffield Lake, OH; G.D.O., Inc. dba Gradient Technology, Elk River, NM; Gates Defense Systems, LLC, Kissimmee, FL; General Atomics, San Diego, CA; Global Resonance Technologies, LLC, Washington, DC; Intelligent Automation, Inc., Rockville, MD; KMASS Solutions, LLC, Baltimore, MD; Knight Aerospace Medical Systems, LLC, San Antonio, TX; KnowledgeBridge International, Herndon, VA; Lexem Strategy LLC dba PMnow, Stafford, VA; Oasis Consulting and Technical Services, Stafford, VA; Onyx Government Services, Centreville, VA; PathSensors, Inc., Baltimore, MD; Photon Systems, Inc., Covina, CA; Radiation Safety & Control Services, Inc., Seabrook, NH; R Busseau LLC dba CAS-TEK, LLC, Havre de Grace, MD; Science, Engineering, Management Solutions, LLC (Sem-Sol), Albuquerque, NM; Selection Pressure LLC dba ION Channel, Alexandria, VA; SelectTech Services Corporation, Centerville, OH; Sera Star Systems, Carrollton, TX; Seton Hall University, South Orange, NJ; Systems & Processes Engineering Corporation (SPEC), Austin, TX; Targeted Compound Monitoring, Beavercreek, OH; Tomahawk Robotics, Inc., Melbourne, FL; Vadum, Inc., Raleigh, NC; Vertex Solutions, LLC, Champaign, IL; Wartech Engineering, LLC, Romulus, MI; and Wright State Applied Research Corporation, Dayton, OH have been added as parties to this venture.

Also, Accenture Federal Services, Arlington, VA; Corvid Technologies, Mooresville, NC; DynPort Vaccine Company LLC, Frederick, MD; GSINS-EES JV LLC, Flemington, NJ; L3 Sonoma E.O., Santa Rosa, CA; LocoLabs LLC, Santa Clara, CA; and Polysciences, Inc., Warrington, PA have withdrawn as parties to this venture.

No other changes have been made in either the membership or planned activity of the group research project. Membership in this group research project remains open, and CWMD intends to file additional written notifications disclosing all changes in membership.

On January 31, 2018, CWMD filed its original notification pursuant to Section 6(a) of the Act. The Department of Justice published a notice in the Federal Register pursuant to Section 6(b) of the Act on March 12, 2018 (83 FR 10750).

The last notification was filed with the Department on January 16, 2020. A notice was published in the Federal Register pursuant to Section 6(b) of the Act on February 5, 2020 (85 FR 6576).

Suzanne Morris,
Chief, Premerger and Division Statistics Unit, Antitrust Division.

[FR Doc. 2020-10725 Filed 5-18-20; 8:45 am]

BILLING CODE 4410-11-P